DEPARTMENT OF COMMERCE

National Telecommunications and Information Administration

First Responder Network Authority

Public Combined Board and Board Committees Meeting

AGENCY: First Responder Network Authority (FirstNet Authority), National Telecommunications and Information Administration (NTIA), U.S. Department of Commerce.

ACTION: Announcement of meeting.

SUMMARY: The FirstNet Authority Board will convene an open public meeting of the Board and the four (4) Board Committees, Governance and Personnel, Network and Technology, Advocacy, and Finance Committees.

DATES: June 17, 2020; 11:00 a.m. to 1:00 p.m. Eastern Standard Time (EST); WebEx.

ADDRESSES: The public meeting will be conducted via teleconference and WebEx only. Members of the public may listen to the meeting by dialing toll-free: 1-888-982-7296 and enter participant code 3161488#. If you experience technical difficulty, please contact the Conferencing Center Customer Service at: 1-866-900-1011. To view the slide presentation, the public may visit the URL: https://www.mymeetings.com/nc/join/ and enter Conference Number: PWXW9653105 and Audience Passcode: 3161488. Alternatively, members of the public may view the slide presentation by directly visiting the URL: https://www.mymeetings.com/nc/join.php?i=PWXW9653105&p=3161488&t=c.

FOR FURTHER INFORMATION CONTACT:

For general information: Janell Smith, (202) 257-5929, Janell.Smith@FirstNet.gov.

For media inquiries: Ryan Oremland, (571) 665-6186, Ryan.Oremland@FirstNet.gov.

SUPPLEMENTARY INFORMATION: Background: The Middle Class Tax Relief and Job Creation Act of 2012 (codified at 47 U.S.C. 1401 et seq.) (Act) established the FirstNet Authority as an independent authority within NTIA. The Act directs the FirstNet Authority to ensure the building, deployment, and operation of a nationwide interoperable public safety broadband network. The FirstNet Authority Board is responsible for making strategic decisions regarding the FirstNet Authority's operations.

Matters to be Considered: The FirstNet Authority will post a detailed agenda for the Combined Board and Board Committees Meeting on FirstNet.gov prior to the meeting. The agenda topics are subject to change. Please note that the subjects discussed by the Board and Committees may involve commercial or financial information that is privileged or confidential, or other legal matters affecting the FirstNet Authority. As such, the Board and Committee Chairs may call for a vote to close the meetings only for the time necessary to preserve the confidentiality of such information, pursuant to 47 U.S.C. 1424(e)(2).

Other Information: The public Combined Board and Board Committees meeting are accessible to people with disabilities. Individuals requiring accommodations, such as sign language interpretation or other ancillary aids, are asked to notify Ms. Smith at (202) 257-5929 or email: Janell.Smith@FirstNet.gov at least five (5) business days (June 9) before the meeting.

Records: The FirstNet Authority maintains records of all Board proceedings. Minutes of the Board and Committee meetings will be available on FirstNet.gov.

Dated: June 1, 2020.
Janell Smith, Board Secretary,
First Responder Network Authority.

[FR Doc. 2020-12187 Filed 6-4-20; 8:45 am]

BILLING CODE 3510-TL-P